DEPARTMENT OF VETERANS AFFAIRS

[OMB Control No. 2900-0095]

Agency Information Collection Activity: Pension Claim Questionnaire for Farm Income

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before May 24, 2019.

ADDRESSES: Submit written comments on the collection of information through Federal Docket Management System (FDMS) at www.regulations.gov or to Nancy Kessinger, Veterans Benefits Administration (20M3), Department of Veterans Affairs, 810 Vermont Avenue NW, Washington, DC 20420 or email to nancy.kessinger@va.gov. Please refer to “OMB Control No. 2900-0095” in any correspondence. During the comment period, comments may be viewed online through FDMS.

FOR FURTHER INFORMATION CONTACT: Danny S. Green at (202) 421-1354.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 1503, 1521, 1522, 1541, 1542, 1543.

Title: Pension Claim Questionnaire for Farm Income, VA Form 21P-4165.

OMB Control Number: 2900-0095.

Type of Review: Extension without change of a currently approved collection.

Abstract: 38 U.S.C. 1521 establishes a pension benefit for Veterans of a period of war who are permanently and totally disabled. 38 U.S.C. 1541 and 38 U.S.C. 1542 establish a survivor's pension benefit for the surviving dependents of Veterans of a period of war.

Entitlement to pension benefits for Veterans and their surviving dependents is based on the family's countable annual income as required by 38 U.S.C. 1503 and net worth as required by 38 U.S.C. 1522.

The information collected will be used by VBA to evaluate a claimant's income and net worth related to the operation of a farm for the purpose of establishing entitlement to pension benefits and to evaluate a beneficiary's ongoing entitlement to pension benefits.

Affected Public: example: Individuals and households.

Estimated Annual Burden: 1,038 hours.

Estimated Average Burden per Respondent: 30 minutes.

Frequency of Response: Once.

Estimated Number of Respondents: 2,075.

By direction of the Secretary:
Danny S. Green,
Interim VA Clearance Officer, Office of Quality, Privacy and Risk, Department of Veterans Affairs.

[FR Doc. 2019-05659 Filed 3-22-19; 8:45 am]

BILLING CODE 8320-01-P